DEPARTMENT OF COMMERCE

Foreign-Trade Zones Board

[B-55-2012]

Foreign-Trade Zone 8—Toledo, OH; Notification of Proposed Production Activity, Whirlpool Corporation (Washing Machines), Clyde and Green Springs, OH

The Toledo-Lucas County Port Authority, grantee of FTZ 8, submitted a notification of proposed production activity on behalf of Whirlpool Corporation (Whirlpool), located in Clyde and Green Springs, Ohio. The notification conforming to the requirements of the regulations of the Board (15 CFR 400.22) was received on July 20, 2012.

The Whirlpool facility consists of three sites in Clyde and Green Springs, Ohio, and is designated as Subzone 8I. The facility is used for the manufacturing and distribution of washing machines. Production under FTZ procedures could exempt Whirlpool from customs duty payments on the foreign status components used in export production. On its domestic sales, Whirlpool would be able to choose the duty rates during customs entry procedures that apply to finished standard and high capacity washing machines (duty rate 1.0-1.4%) for the foreign status inputs noted below. Customs duties also could possibly be deferred or reduced on foreign status production equipment.

Components and materials sourced from abroad include: reinforced rubber hoses, rubber seals and bellows, rotary displacement pumps, centrifugal pumps, drain pumps, washing machine parts, bearing assemblies, transmission parts, shift actuators, AC motors, power supplies, heater tubs, LED light assemblies, triple level and push button switches, control panels, printed circuit boards, power cords, wire harnesses, EMI filters, pressure sensors, pressure switches, slide assemblies and light assemblies (duty rate ranges from duty-free to 9%).

Public comment is invited from interested parties. Submissions shall be addressed to the Board's Executive Secretary at the address below. The closing period for their receipt is September 11, 2012.

A copy of the notification will be available for public inspection at the Office of the Executive Secretary, Foreign-Trade Zones Board, Room 2111, U.S. Department of Commerce, 1401 Constitution Avenue NW., Washington, DC 20230-0002, and in the “Reading Room” section of the Board's Web site, which is accessible via www.trade.gov/ftz.

FOR FURTHER INFORMATION CONTACT: Elizabeth Whiteman at Elizabeth.Whiteman@trade.gov or (202) 482-0473.

Dated: July 26, 2012.
Andrew McGilvray,
Executive Secretary.

[FR Doc. 2012-18915 Filed 8-1-12; 8:45 am]

BILLING CODE;P